DEPARTMENT OF TRANSPORTATION

Federal Aviation Administration

14 CFR Part 39

[Docket No. FAA-2020-0418; Product Identifier 2017-SW-053-AD]

RIN 2120-AA64

Airworthiness Directives; Airbus Helicopters Deutschland GmbH Helicopters

AGENCY: Federal Aviation Administration (FAA), DOT.

ACTION: Notice of proposed rulemaking (NPRM).

SUMMARY: The FAA proposes to adopt a new airworthiness directive (AD) for certain Airbus Helicopters Deutschland GmbH Model MBB-BK 117 D-2 helicopters. This proposed AD was prompted by the discovery that certain longitudinal trim actuators, lateral trim actuators, and yaw trim actuators, which are certified for installation on MBB-BK117 C-2 helicopters, were erroneously listed as eligible for installation on MBB-BK 117 D-2 helicopters. This proposed AD would require removing the affected parts from service and prohibit installing the affected parts on MBB-BK 117 D-2 helicopters. The FAA is proposing this AD to address the unsafe condition on these products.

DATES: The FAA must receive comments on this proposed AD by June 8, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N Forum Drive, Grand Prairie, TX 75052; telephone 972-641-0000 or 800-232-0323; fax: 972-641-3775; or at https://www.airbus.com/helicopters/services/technical-support.html. You may view this service information at the FAA, Office of the Regional Counsel, Southwest Region, 10101 Hillwood Pkwy., Room 6N-321, Fort Worth, TX 76177.

Examining the AD Docket

You may examine the AD docket on the internet at https://www.regulations.gov by searching for and locating Docket No. FAA-2020-0418; or in person at Docket Operations between 9 a.m. and 5 p.m., Monday through Friday, except Federal holidays. The AD docket contains this NPRM, the European Union Aviation Safety Agency (previously European Aviation Safety Agency) (EASA) AD, any comments received, and other information. The street address for Docket Operations is listed above. Comments will be available in the AD docket shortly after receipt.

FOR FURTHER INFORMATION CONTACT: David Hatfield, Aviation Safety Engineer, Safety Management Section, Rotorcraft Standards Branch, FAA, 10101 Hillwood Pkwy., Fort Worth, TX 76177; telephone 817-222-5110; email david.hatfield@faa.gov.

SUPPLEMENTARY INFORMATION:

Comments Invited

The FAA invites you to send any written relevant data, views, or arguments about this proposal. Send your comments to an address listed under the ADDRESSES section. Include “Docket No. FAA-2020-0418; Product Identifier 2017-SW-053-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

EASA, which is the Technical Agent for the Member States of the European Union, has issued EASA AD No. 2017-0094, dated May 29, 2017 (EASA AD 2017-0094), to correct an unsafe condition for Airbus Helicopters Deutschland GmbH Model MBB-BK 117 D-2 helicopters with a serial number (S/N) up to 20126 inclusive, excluding S/N 20109, 20119, and 20124. EASA advises that certain part-numbered longitudinal trim actuators, lateral trim actuators, and yaw trim actuators, which are certified for installation on Model MBB-BK117 C-2 helicopters, were erroneously listed as eligible for installation on Model MBB-BK117 D-2 helicopters in the applicable illustrated parts catalogue (IPC), up to Revision 7. EASA AD 2017-0094 states that one or more of these trim actuators could have been installed in service on Model MBB-BK 117 D-2 helicopters. EASA AD 2017-0094 also states that for Model MBB-BK 117 C-2 helicopters, it issued EASA AD No. 2013-0182, dated August 12, 2013 (EASA AD 2013-0182), to require a torque check of the attachment screws and repetitive visual inspections of two of these trim actuators, to address a possible unsafe condition that, if not detected and corrected, could lead to reduced control of the helicopter. EASA AD 2013-0182 prompted FAA AD 2016-21-03, Amendment 39-18684 (81 FR 72505, October 20, 2016). EASA AD 2017-0094 further states that the same unsafe condition could exist on MBB-BK 117 D-2 helicopters, if equipped with an affected part. EASA advises that the IPC has been revised, and to address this condition, EASA AD 2017-0094 requires replacing the affected parts with parts that are approved for installation on MBB-BK117 D-2 helicopters. EASA AD 2017-0094 also prohibits the installation of the affected parts on any helicopter.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other helicopters of the same type design.

Related Service Information

Airbus Helicopters has issued Alert Service Bulletin (ASB) MBB-BK117 D-2-67A-005, Revision 0, dated April 3, 2017. This service information contains procedures for replacing the affected parts.

This service information is reasonably available because the interested parties have access to it through their normal course of business or by the means identified in the ADDRESSES section.

Proposed AD Requirements

This proposed AD would require, within 300 hours time-in-service, removing longitudinal trim actuator part number (P/N) 418-00878-001, lateral trim actuator P/N 418-00878-051, and yaw trim actuator P/N 418-00879-001 from service. This proposed AD would also prohibit the installation of these part-numbered actuators on Model MBB-BK 117 D-2 helicopters.

Differences Between This Proposed AD and the EASA AD

The EASA AD has a compliance time of “Within 400 flight hours, or within 12 months, whichever occur first” for the replacement. However, this proposed AD would require replacing affected parts within 300 hours time-in-service instead. The EASA AD prohibits the installation of an affected actuator on any helicopter, whereas this proposed AD would prohibit the installation of an affected actuator on any Model MBB-BK 117 D-2 helicopter instead.

Costs of Compliance

The FAA estimates that this proposed AD would affect 29 helicopters of U.S. registry. Labor costs are estimated at $85 per work-hour. Based on these numbers, the FAA estimates the following costs to comply with this proposed AD.

If required, replacing an actuator would take about 1.5 work-hours and parts would cost about $20,000 for an estimated cost of $20,128.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH: Docket No. FAA-2020-0418; Product Identifier 2017-SW-053-AD.

(a) Comments Due Date

The FAA must receive comments by June 8, 2020.

(b) Affected ADs

None.

(c) Applicability

This AD applies to Airbus Helicopters Deutschland GmbH Model MBB-BK 117 D-2 helicopters, certificated in any category, with a serial number up to 20126 inclusive, excluding serial numbers 20109, 20119, and 20124, and with any of the following installed:

(1) Longitudinal trim actuator part number (P/N) 418-00878-001,

(2) Lateral trim actuator P/N 418-00878-051, or

(3) Yaw trim actuator P/N 418-00879-001.

(d) Subject

Joint Aircraft Service Component (JASC) Code 6700, Rotors flight control.

(e) Unsafe Condition

This AD was prompted by the discovery that certain longitudinal trim actuators, lateral trim actuators, and yaw trim actuators were erroneously listed as eligible for installation on MBB-BK 117 D-2 helicopters. The FAA is issuing this AD to address this condition, which could lead to reduced control of the helicopter.

(f) Compliance

Comply with this AD within the compliance times specified, unless already done.

(g) Required Actions

(1) Within 300 hours time-in-service, remove from service any longitudinal trim actuator P/N 418-00878-001, lateral trim actuator P/N 418-00878-051, and yaw trim actuator P/N 418-00879-001.

(2) After the effective date of this AD, do not install longitudinal trim actuator P/N 418-00878-001, lateral trim actuator P/N 418-00878-051, or yaw trim actuator P/N 418-00879-001 on any Model MBB-BK 117 D-2 helicopter.

(h) Special Flight Permit

Special flight permits are prohibited.

(i) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(j) Related Information

(1) The subject of this AD is addressed in European Union Aviation Safety Agency (previously European Aviation Safety Agency) (EASA) AD 2017-0094, dated May 29, 2017. This EASA AD may be found in the AD docket on the internet at https://www.regulations.gov by searching for and locating Docket No. FAA-2020-0418.

(2) For service information identified in this AD, contact Airbus Helicopters, 2701 N Forum Drive, Grand Prairie, TX 75052; telephone 972-641-0000 or 800-232-0323; fax: 972-641-3775; or at https://www.airbus.com/helicopters/services/technical-support.html. You may view this service information at the FAA, Office of the Regional Counsel, Southwest Region, 10101 Hillwood Pkwy., Room 6N-321, Fort Worth, TX 76177.

Issued on April 17, 2020.
Lance T. Gant,
Director, Compliance & Airworthiness Division, Aircraft Certification Service.

[FR Doc. 2020-08623 Filed 4-22-20; 8:45 am]

BILLING CODE 4910-13-P